DEPARTMENT OF COMMERCE

Foreign-Trade Zones Board

[Order No. 1119]

Expansion of Foreign-Trade Zone 68, El Paso, TX

Pursuant to its authority under the Foreign-Trade Zones Act of June 18, 1934, as amended (19 U.S.C. 81a-81u), the Foreign-Trade Zones Board (the Board) adopts the following Order:

Whereas, the City of El Paso, Texas, grantee of Foreign-Trade Zone No. 68, submitted an application to the Board for authority to expand FTZ 68 Sites 2 and 3 in El Paso, Texas, within the El Paso Customs port of entry (FTZ Docket 53-99, filed 10/26/99);

Whereas, notice inviting public comment was given in the Federal Register (64 FR 60408, 11/5/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 68 Sites 2 and 3 is approved, subject to the FTZ Act and the Board's regulations, including Section 400.28, and further subject to the Board's standard 2,000-acre activation limit for the overall zone project.

Signed at Washington, DC, this 8th day of September 2000.
Troy H. Cribb,
Acting Assistant Secretary of Commerce for Import Administration, Alternate Chairman, Foreign-Trade Zones Board.

[FR Doc. 00-24298 Filed 9-20-00; 8:45 am]

BILLING CODE 3510-DS-P